OFFICE OF GOVERNMENT ETHICS

Privacy Act of 1974; System Records

AGENCY: Office of Government Ethics.

ACTION: Notice of a new system of records.

SUMMARY: The Office of Government Ethics (OGE) proposes to create a new system of records pursuant to the provisions of the Privacy Act of 1974. This system of records contains personally identifiable information (PII) collected from Federal employees and/or members of the public who register to attend or otherwise participate in OGE-hosted meetings and events. The system will maintain the information necessary for OGE to collect information on participants that can be used to administratively organize a meeting or event.

DATES: This system of records will be applicable on December 20, 2019, subject to a 30-day period in which to comment on the routine uses, described below. Please submit any comments by January 21, 2020.

ADDRESSES: Comments may be submitted to OGE, by any of the following methods:

Email: usoge@oge.gov (Include reference to “OGE/INTERNAL-6 comment” in the subject line of the message.).

Fax: 202-482-9237, Attn: Sara Nekou.

Mail, Hand Delivery/Courier: Office of Government Ethics, 1201 New York Avenue NW, Suite 500, Attention: Sara Nekou, Assistant Counsel, Washington, DC 20005-3917.

Instructions: Comments may be posted on OGE's website, https://www.oge.gov. Sensitive personal information, such as account numbers or Social Security numbers, should not be included. Comments generally will not be edited to remove any identifying or contact information.

FOR FURTHER INFORMATION CONTACT: Sara Nekou at the U.S. Office of Government Ethics; telephone: 202-482-9229; TTY: 800-877-8339; FAX: 202-482-9237; Email: snekou@oge.gov.

SUPPLEMENTARY INFORMATION: The Office of Government Ethics is establishing a new system of records that includes personal information obtained from individuals registering for OGE-hosted meetings or events. This personal information is used to manage the meetings and events, prepare event materials, and communicate with the event participants.

SYSTEM NAME AND NUMBER:

OGE/INTERNAL-6, Online Registration for OGE-Hosted Meetings and Events.

SECURITY CLASSIFICATION:

Unclassified.

SYSTEM LOCATION:

Office of Government Ethics, 1201 New York Avenue NW, Suite 500, Washington, DC 20005-3917. Records may be kept in commercial third-party applications, including Pay.gov, located at the Department of the Treasury, Bureau of the Fiscal Service, 401 14th Street SW, Washington DC 20227.

SYSTEM MANAGER(S):

Nicole Stein, Chief, Agency Assistance Branch, Office of Government Ethics, Suite 500, 1201 New York Avenue NW, Washington, DC 20005-3917.

AUTHORITY FOR MAINTENANCE OF THE SYSTEM:

5 U.S.C. app. § 402 (Ethics in Government Act of 1978); 44 U.S.C. 3101.

PURPOSE(S) OF THE SYSTEM:

The purpose is to collect information on participants who register for an OGE-hosted meeting or event, which can be used to administratively organize a meeting or event. For example, OGE may need to track the collection of registration fees, create printed materials such as nametags, tent cards, and event programs and directories, or contact presenters to provide information.

CATEGORIES OF INDIVIDUALS COVERED BY THE SYSTEM:

Federal employees in the executive branch, and/or members of the public who register to attend or otherwise participate in OGE-hosted meetings and events.

CATEGORIES OF RECORDS IN THE SYSTEM:

This system of records contains personally identifiable information (PII) collected from individuals registering to attend or otherwise participate in OGE-hosted meetings and events. The PII collected includes name, agency/organization, address, telephone number, email address, state, city or town, country, number of years worked in the field of ethics, and special accommodations requests.

RECORD SOURCE CATEGORIES:

Information in this system of records is provided by the individual on whom the record is maintained, or by the individual's organization if the organization is registering an individual on his or her behalf.

ROUTINE USES OF RECORDS MAINTAINED IN THE SYSTEM, INCLUDING CATEGORIES OF USERS AND THE PURPOSES OF SUCH USES:

These records and the information contained therein may be used:

a. To disclose information to all event participants for the purposes of displaying names and other personal information on event materials such as name badges, tent cards, or event programs or directories.

b. To disclose information to vendors, venues, or other Federal agencies for the purposes of event planning and/or venue security.

c. To disclose information when OGE determines that the records are arguably relevant and necessary to a proceeding before a court, grand jury, or administrative or adjudicative body; or in a proceeding before an administrative or adjudicative body when the adjudicator determines the records to be relevant and necessary to the proceeding.

d. To disclose information to the National Archives and Records Administration in records management inspections conducted under authority of 44 U.S.C. 2904 and 2906.

e. To disclose information to appropriate agencies, entities, and persons when: (1) OGE suspects or has confirmed that there has been a breach of the system of records; (2) OGE has determined that as a result of the suspected or confirmed breach there is a risk of harm to individuals, the agency (including its information systems, programs, and operations), the Federal Government, or national security; and (3) the disclosure made to such agencies, entities, and persons is reasonably necessary to assist in connection with OGE's efforts to respond to the suspected or confirmed breach or to prevent, minimize, or remedy such harm.

f. To disclose information to another Federal agency or Federal entity, when OGE determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained in paper and/or electronic form.

POLICIES AND PRACTICES FOR RETRIEVAL OF RECORDS:

These records may be retrieved by name or other data elements such as an individual's agency.

POLICIES AND PRACTICES FOR RETENTION AND DISPOSAL OF RECORDS:

In accordance with General Records Schedule 6.4, item 010, Public affairs-related routine operational records, the records are destroyed when 3 years old, or no longer needed, whichever is later.

ADMINISTRATIVE, TECHNICAL, AND PHYSICAL SAFEGUARDS:

Hardcopy records are maintained in file cabinets which may be locked or in specified areas to which only authorized personnel have access. Electronic records are maintained either on the OGE network, in OGE internal applications, or in third party applications like Pay.gov, which is used to manage paid registrations. They are protected from unauthorized access through password identification procedures, limited access, firewalls, and other system-based protection methods.

RECORD ACCESS PROCEDURES:

Individuals requesting access to this system of records must follow the procedures set forth in OGE's Privacy Act regulations at 5 CFR part 2606.

CONTESTING RECORD PROCEDURES:

Individuals wishing to request amendment of records about themselves must follow the procedures set forth in OGE's Privacy Act regulations at 5 CFR part 2606.

NOTIFICATION PROCEDURE:

Individuals wishing to inquire whether this system of records contains information about them must follow the procedures set forth in OGE's Privacy Act regulations at 5 CFR part 2606.

EXEMPTIONS CLAIMED FOR THE SYSTEM:

None.

HISTORY:

None.

Approved: December 17, 2019.
Emory Rounds,
Director, U.S. Office of Government Ethics.

[FR Doc. 2019-27516 Filed 12-19-19; 8:45 am]

BILLING CODE P